DEPARTMENT OF ENERGY

Federal Energy Regulatory Commission

[ Docket No. RP06-465-000]

Texas Eastern Transmission, LP; Algonquin Gas Transmission, LLC; Maritimes & Northeast Pipeline, L.L.C.; East Tennessee Natural Gas, LLC; Egan Hub Storage, LLC; Notice Requesting Temporary Waiver of Certain Tariff Provisions and NAESB Standards and Notice of Expedited Comment Period

August 4, 2006.

Take notice that on August 3, 2006, Texas Eastern Transmission, LP (Texas Eastern), Algonquin Gas Transmission, LLC (Algonquin), Maritimes & Northeast Pipeline, L.L.C. (Maritimes), East Tennessee Natural Gas, LLC (East Tennessee) and Egan Hub Storage, LLC (Egan Hub) (together referred to as the “Pipelines”) requested temporary waiver of the following due to the Electronic Bulletin Board (“LINK®”) outages associated with the migration from the legacy computing platform and database:

Texas Eastern General Terms and Conditions (“GT&C”):

Section 2—Electronic Communications.

Section 3.14—Capacity Release.

Section 4.1—Scheduling of Storage and Transportation Services.

Section 16.1—Informational Postings.

Algonquin GT&C:

Section 14—Capacity Release.

Section 22—Nominations.

Section 23.4—Scheduling Penalty.

Section 31.2—Penalty Payment.

Section 38.3—Informational Postings.

Section 40—Electronic Communication.

East Tennessee GT&C:

Section 15—Scheduling of Receipts and Deliveries.

Section 17—Temporary Release or Permanent Assignment of Rights to Firm Transportation Service.

Section 18—Temporary Release or Permanent Assignment of Rights to LNG Service.

Section 23—Electronic Communication.

Section 35.5—Informational Postings.

Section 47.6—Unauthorized Delivery Imbalance Charge.

Maritimes GT&C:

Section 2—Electronic Communication.

Section 5—Service Nomination Procedure.

Section 9—Capacity Release.

Section 25.1—Informational Postings.

Egan GT&C:

Section 4—Capacity Release.

Section 8—Nominations and Scheduling.

Section 22.1—Informational Postings.

Section 32—Electronic Communications.

Flowing Gas Related Standards.

Electronic Delivery Mechanism Related Standards.

Capacity Release Related Standards.

Federal Energy Regulatory Commission (“FERC”) Regulations:

Section 284.12—Standards for pipeline business operations and communications.

Section 284.13—Reporting requirements for interstate pipelines.

The Pipelines state that the conversion of LINK® from the current mainframe platform to a client-server platform will cause essentially all functions of LINK® to be unavailable commencing at 5 p.m. CCT on Friday, August 18, 2006 and projected to end at 5 a.m. CCT on Monday, August 21, 2006.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time August 9, 2006.

Magalie R. Salas,
Secretary.

[FR Doc. E6-13139 Filed 8-10-06; 8:45 am]

BILLING CODE 6717-01-P